DEPARTMENT OF ENERGY

Federal Energy Regulatory Commission

[Project No. 2106—047-California]

Pacific Gas and Electric; Notice of Site Visit

(August 23, 2006).

On September 19 and September 20, 2006, the Federal Energy Regulatory Commission (Commission) Staff and Pacific Gas and Electric Company, the applicant, will conduct an on-site visit of the McCloud-Pit Project located on the McCloud and Pit Rivers in Shasta County, California. Under the Integrated Licensing Process (ILP), the Commission conducts its National Environmental Policy Act (NEPA) scoping meeting within 90 days of the filing of the applicant's Notice of Intent and Pre-Application Document. A site visit is typically held in conjunction with that scoping meeting; however, scoping for this project is currently planned for October 23 and 24, 2006 and access to some project facilities may be limited by weather conditions. For this reason, the Commission will host the site visit earlier in the process. The Commission encourages all interested parties to participate in this site visit to ensure a productive scoping meeting in October 2006.

The site visit is open to the public and resource agencies. Participants are responsible for their own transportation, but car pooling is encouraged as much as possible. Some roads in upper watershed locations are unpaved and may be in poor condition—4-wheel drive is recommended, but not required. Also, portions of the tour may require hiking steep trails in remote locations, so please plan accordingly. Tour days may be long, so please bring food and water. A tentative schedule is provided below (times given are in Pacific Daylight Savings):

Tuesday, September 19, 2006

6:45 a.m. Individuals arrive at PG&E's Service Center, located at 20818 Black Ranch Road, Burney, CA 96013

8 a.m. Meet at McCloud Reservoir USFS Tarantula Gulch Boat Ramp

9 a.m. Ah-Di-Na Stream Gage (MC-1)

10 a.m. Star City

10:30 a.m. McCloud Dam (Top)

11 a.m. McCloud Dam (Bottom)

11:15 a.m. Stream GageMC-7

11:30 a.m. Hawkins Creek Pipe Crossing

12:30 a.m. Lunch at USFS Deadlum Campground

1:30 p.m. Hawkins Landing Campground & Boat Ramp

2 p.m. Iron Canyon Overflow

2:30 p.m. Iron Canyon Dam

3:30 p.m. Iron Canyon Pipe

4 p.m. James B. Black Surge Chamber

4:30 p.m. James B. Black Penstock

Wednesday, September 20, 2006

6:45 a.m. Individuals arrive at PG&E's Service Center, located at 20818 Black Ranch Road, Burney, CA 96013

8 a.m. James B. Black Powerhouse

10 a.m. Pit 6 Dam

10:30 a.m. Pit 6 Powerhouse

12 p.m. Lunch at Pit 7 Afterbay Dam

2 p.m. Pit 7 Dam

2:30 p.m. Pit 7 Powerhouse

3:30 p.m. Stream Gage PH-47

Please direct any questions regarding the McCloud-Pit Hydroelectric Project licensing to Emily Carter, FERC Team Leader, at (202) 502-6512 or emily.carter@ferc.gov.

Magalie R. Salas,
Secretary.

[FR Doc. E6-14391 Filed 8-29-06; 8:45 am]

BILLING CODE 6717-01-P